DEPARTMENT OF ENERGY

Federal Energy Regulatory Commission

Notice of Application Ready for Environmental Analysis and Soliciting Comments, Recommendations, Terms and Conditions, and Prescriptions

June 5, 2003.

Take notice that the following hydroelectric application has been filed with the Commission and is available for public inspection.

a. Type of Application: New Major License.

b. Project No.: 2984-042.

c. Date filed: March 29, 2002.

d. Applicant: S.D. Warren Company.

e. Name of Project: Eel Weir Hydroelectric Project.

f. Location: The existing project is located on the Presumpscot River at the outlet of Sebago Lake, in Cumberland County, Maine. The project does not affect federal lands.

g. Filed Pursuant to: Federal Power Act 16 U.S.C. 791 (a)—825(r).

h. Applicant Contact: Thomas P. Howard, S.D. Warren Company, 89 Cumberland Street, P.O. Box 5000, Westbrook, ME 04098-1597; Telephone (207) 856-4286.

i. FERC Contact: Allan Creamer, (202) 502-8365 or allan.creamer@ferc.gov.

j. Deadline for filing comments, recommendations, terms and conditions, and prescriptions: 60 days from the issuance of this notice. The Commission directs, pursuant to Section 4.34(b) of the Regulations (see Order No. 533 issued May 8, 1991, 56 FR 23108, May 20, 1991) that all comments, recommendations, terms and conditions and prescriptions concerning the application be filed with the Commission within 60 days from the issuance date of this notice. All reply comments must be filed with the Commission within 105 days from the date of this notice. Anyone may obtain an extension of time for these deadlines from the Commission only upon a showing of good cause or extraordinary circumstances in accordance with 18 CFR 385.2008.

All documents (original and eight copies) should be filed with: Magalie R. Salas, Secretary, Federal Energy Regulatory Commission, 888 First Street, NE., Washington, DC 20426. The Commission's Rules of Practice require all interveners filing documents with the Commission to serve a copy of that document on each person on the official service list for the project. Further, if an intervener files comments or documents with the Commission relating to the merits of an issue that may affect the responsibilities of a particular resource agency, they must also serve a copy of the document on that resource agency.

Comments, recommendations, terms and conditions, and prescriptions may be filed electronically via the Internet in lieu of paper. See 18 CFR 385.2001(a)(1)(iii) and the instructions on the Commission's Web site ( http://www.ferc.gov) under the “e-Filing” link. The Commission strongly encourages electronic filing.

k. This application has been accepted, and is ready for environmental analysis at this time.

l. The existing Eel Weir Project operates in a store-and-release mode. The project consists of the following features: (1) A 115-foot-long, 22-foot-high stone masonry spillway dam; (2) a 900-foot-long stone and earth-fill east abutment section that varies in height from a few inches to a maximum of 20 feet; (3) a 260-foot-long stone and earth-fill west abutment section with variable height; (4) five 6.5-foot-high by 4.75-foot-wide discharge gates; (5) four 8.8-foot-high by 7-foot-wide canal intake gates; (6) a 12-mile-long, 28,771-acre impoundment, Sebago Lake, at elevation 266.65 msl; (7) a 6,700-mile-long bypassed reach; (8) a 90-foot-long fish screen, located upstream of the canal gates; (9) a 4,826-foot-long, 15-foot-deep earthen power canal; (10) three canal waste gates that discharge to the upper bypassed reach, each with an integral minimum flow gate, and two canal sluice gates, located along the canal wall integral to the powerhouse intake structure wall, which discharge to the lower bypassed reach; (11) a powerhouse containing three Hercules turbines and generating units, having an installed capacity of 1,800 kilowatts; (12) a 3.5-mile-long, 11-kilovolt transmission line; and (13) appurtenant facilities. The average annual generation is estimated to be about 12,300 megawatt-hours. All power generated by the project is utilized by the applicant's paper mill in Westbrook, Maine.

m. A copy of the application is available for review at the Commission in the Public Reference Room or may be viewed on the Commission's Web site at http://www.ferc.gov using the “FERRIS” link. Enter the docket number, excluding the last three digits in the docket number field (P-2984), to access the document. For assistance, contact FERC Online Support at FERCOnlineSupport@ferc.gov, or toll-free at 1-866-208-3676, or for TTY, (202) 502-8659. A copy is also available for inspection and reproduction at the address in item h above.

Register online at http://www.ferc.gov/esubscribenow.htm to be notified via email of new filings and issuances related to this or other pending projects. For assistance, contact FERC Online Support.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

o. The application will be processed according to the following Hydro Licensing Schedule. Revisions to the schedule will be made if the Commission determines it necessary to do so:

Action | Tentative date
Notice of availability of the draft NEPA document | October 2003.
Initiate 10(j) process | October 2003.
Notice of availability of the final NEPA document | February 2004.
Ready for Commission decision on the application | May 2004.

Final amendments to the application must be filed with the Commission no later than 30 days from the issuance date of this notice.

Magalie R. Salas,
Secretary.

[FR Doc. 03-14754 Filed 6-10-03; 8:45 am]

BILLING CODE 6717-01-P